Title 3—

The President

Proclamation 10530 of March 13, 2023

National Equal Pay Day, 2023

By the President of the United States of America

A Proclamation

Despite historic growth, rising wages, and unemployment at a near record low, women working full-time, year-round are paid an average 84 cents for every dollar paid to men. Pay disparities are even more pronounced for Black women, Native American women, Latinas, many Asian American women, and women with disabilities. On Equal Pay Day, we call attention to this injustice and the pay disparities that add up to hundreds of thousands of dollars in lost income over a lifetime, undermining financial security for women and families across our Nation. My Administration is working to change that.

Discrimination accounts for some of the pay gap. In nearly every job—90 percent of occupations, from retail to business to professional sports—women are still paid, on average, less than men. They can be the very best at what they do but still have to fight for equal pay. The pay gap also stems from women's disproportionate caregiving responsibilities for children and aging loved ones, which can force them to forgo job opportunities, reduce their work hours, or leave the workforce at times. And part of it is due to the fact that women are underrepresented in careers that offer good pay and benefits, while fields where they are overrepresented, like teaching and nursing, do not pay what they should, despite being critical to our communities and economy.

To right that wrong and truly level the playing field, we need to not only crack down on discrimination but also address the systemic issues behind the pay gap. My Administration has been laser-focused on rooting out pay inequity and dismantling the barriers that women face in the workplace and across our economy. When COVID-19 forced millions of women out of the workforce, often to care for their families at home, women's labor participation fell to its lowest level in 35 years. But we sent billions in direct stimulus relief to families to help make ends meet. We provided another $24 billion in funds to stabilize child care providers, supporting working parents. Today, millions of American women are back at work—and a record 12 million jobs have been created since I took office, with many more to come in good-paying clean energy and semiconductor careers of the future. And we are working to ensure that those workers who will power our economy for years to come have access to child care, giving women more opportunities to succeed.

Meanwhile, I took executive action to raise the minimum wage that Federal contractors are required to pay their workers, directly benefiting tens of thousands of women. I also issued Executive Orders to consider the use of salary history in pay-setting decisions for Federal workers and to promote efforts to achieve pay equity for job applicants and employees of Federal contractors. I have fought for every worker's right to join a labor union and collectively bargain, which has been proven to lift women's wages, and I also signed historic legislation strengthening workplace protections and support for pregnant women and nursing mothers. I will never stop pushing to expand access to quality child and elder care while boosting pay for professional caregivers, who are disproportionately women of color.

We have used the power of our example and put women at the head of the table across the highest levels of Government—from the Vice Presidency, to the Supreme Court, to the most diverse Cabinet in our history, which is the first ever to have equal numbers of women and men. Doing so sets expectations for women leaders across the country and in every workplace and shows our daughters and granddaughters that there is nothing a man can do that a woman cannot do.

But we clearly still have a long way to go. To tackle pay discrimination head-on, I continue to urge the Congress to pass the Paycheck Fairness Act, which would increase transparency, making it harder for employers to justify disparities and easier for workers to hold them accountable. Information is power, and people need to know if they are being unfairly paid. We also have to get more families the support needed for both women and men to lead full careers—including paid family and medical leave and affordable child, elder, and home care so no one in this country is ever again forced to choose between the job they need and the family they love.

I have often said that a job is about more than a paycheck—it is about dignity and respect. It is about honoring the basic bargain that when you work hard in this country, you get ahead. Equal pay is about justice and fairness and living up to our values and who we are as a Nation. Together, we have to make sure that our daughters have the same rights and opportunities as our sons.

NOW, THEREFORE, I, JOSEPH R. BIDEN JR., President of the United States of America, by virtue of the authority vested in me by the Constitution and the laws of the United States, do hereby proclaim March 14, 2023, as National Equal Pay Day. I call upon all Americans to recognize the full value of women's skills and their significant contributions to the labor force, acknowledge the injustice of wage inequality, and join efforts to achieve equal pay.

IN WITNESS WHEREOF, I have hereunto set my hand this thirteenth day of March, in the year of our Lord two thousand twenty-three, and of the Independence of the United States of America the two hundred and forty-seventh.

[FR Doc. 2023-05510

Filed 3-15-23; 8:45 am]

Billing code 3395-F3-P